ENVIRONMENTAL PROTECTION AGENCY

[ER-FRL-6647-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 4, 2003 (68 FR 16511).

Draft EISs

ERP No. D-FRC-H03000-00 Rating EC2, Cheyenne Plains Pipeline Project, Natural Gas Transmission Pipeline, Construction and Operation, NPDES Permit and U.S. Army COE Section 404 Permit Issuance, several counties, CO and several counties, KS.

Summary: EPA requested additional information regarding impacts to wetlands and recommended that the Final EIS include a Clean Water Act section 404(b)(1) Guidelines evaluation. EPA also requested information regarding the potential for Prevention of Significant Deterioration (PSD) increment constraints at the Cheyenne Hub.

ERP No. D-IBR-K39081-CA Rating EC2, Freeport Regional Water Project, To Construct and Operate a Water Supply Project to Meet Regional Water Supply Needs, Sacramento County Water Agency (SCWA) and the East Bay Municipal Utility District (EBMUD), Alameda, Contra Costa, San Joaquin, Sacramento Counties, CA.

Summary: EPA expressed concerns regarding potential cumulative impacts to habitat, water quality, and water supply reliability. EPA requested additional information regarding groundwater management, assurance for protection of species of concern, and compliance with section 404 of the Clean Water Act.

ERP No. D-NOA-D91000-00 Rating EC2, Framework Adjustment 4 to the Atlantic Mackerel, Squid, and Bullfish Fishery Management Plan, To Extend the Moratorium to the Illex Fishery, Mid-Atlantic Fishery Management Council.

Summary: EPA requests further information and clarification on the proposed actions and the alternatives considered. EPA also requested that the impacts to Essential Fish Habitat and the cumulative impacts associated with the fishery be assessed.

Final EISs

ERP No. F-DOE-K08024-CA, Sacramento Area Voltage Support Project, System Reliability and Voltage Support Improvements, Sierra Nevada Region, Alameda, Contra Costa, Placer, Sacramento, San Joaquin and Sutter Counties, CA.

Summary: The final EIS is responsive to many issues raised by EPA regarding the draft EIS. EPA recommends that the Record of Decision fully describe the basis for the selection of the Preferred Alternative and that continued attention be paid to activities in the project area's mitigation measures for potential cumulative impact can be identified.

ERP No. F-FHW-D40392-PA, Central Susquehanna Valley Transportation Project, Improve Transportation, PA 0015 Section 088, Funding and COE Section 404 Permit, Snyder, Northumberland and Union Counties, PA.

Summary: EPA is concerned with further reducing the amount of waste material generated by the preferred alternative and with the placement of the waste material to avoid any secondary environmental impacts. EPA recommends further coordination with resource agencies on the placement of stormwater management facilities, temporary access roads and staging areas during construction to avoid additional impacts.

ERP No. F-FTA-J40159-CO, West Corridor Project, Transportation Improvements in the Cities of Denver, Lakewood and Golden, Light Rail Transit (LRT), Jefferson County, CO.

Summary: No formal comment letter was sent to the preparing agency.

Dated: December 29, 2003.
Joseph C. Montgomery,
Director, NEPA Compliance Division, Office of Federal Activities.

[FR Doc. 03-32312 Filed 12-31-03; 8:45 am]

BILLING CODE 6560-50-P